FEDERAL MINE SAFETY AND HEALTH REVIEW COMMISSION

Sunshine Act Meetings

TIME AND DATE: 10 a.m., Wednesday, February 25, 2026.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Secretary of Labor v. W.G. Yates and Son's Construction Company, Docket No. SE 2023-0094 (Issues include: (1) whether the Judge erred in concluding that the operator violated the safety standard at 30 CFR 56.4500 and (2) whether the Judge erred in concluding that the violation was significant and substantial).

Any person attending this meeting who requires special accessibility features and/or auxiliary aids, such as sign language interpreters, must inform the Commission in advance of those needs. Subject to 29 CFR 2706.150(a)(3) and 2706.160(d).

CONTACT PERSON FOR MORE INFORMATION: Rory P. Smith (202) 525-8649/(202) 708-9300 for TDD Relay/1-800-877-8339 for toll free.

Phone Number for Listening to Meeting: 1-(866) 236-7472; Passcode: 678-100.

Authority: 5 U.S.C. 552b.

Dated: February 4, 2026.
Rory P. Smith,
Attorney-Advisor.

[FR Doc. 2026-02446 Filed 2-4-26; 4:15 pm]

BILLING CODE 6735-01-P